DEPARTMENT OF TRANSPORTATION

Federal Motor Carrier Safety Administration

[Docket No. FMCSA-2006-26367]

Motor Carrier Safety Advisory Committee; Request for Nominations

AGENCY: Federal Motor Carrier Safety Administration (FMCSA), DOT.

ACTION: Request for Nominations to the Motor Carrier Safety Advisory Committee (MCSAC).

SUMMARY: The FMCSA solicits nominations for interested persons to serve on the MCSAC. The MCSAC is composed of FMCSA stakeholders from the safety enforcement, industry, labor, and safety sectors and is charged with providing advice and recommendations to the FMCSA Administrator on Federal motor carrier safety programs.

DATES: Nominations for the MCSAC must be received on or before March 2, 2011.

FOR FURTHER INFORMATION CONTACT: Ms. Shannon L. Watson, MCSAC Liaison, FMCSA, at 202-385-2395 or via e-mail at Shannon.Watson@dot.gov.

SUPPLEMENTARY INFORMATION:

I. Background

Section 4144 of the Safe, Accountable, Flexible, Efficient Transportation Equity Act: A Legacy for Users (SAFETEA-LU) (Pub. L. 109-59, August 10, 2005) required the Secretary of Transportation to establish the MCSAC. The Committee provides advice and recommendations to the Administrator of FMCSA on the needs, objectives, plans, approaches, content, and accomplishments of motor carrier safety programs and motor carrier safety regulations under its charter (http://mcsac/about.htm). The Committee may be comprised of not more than 20 members appointed by the Administrator for up to 2-year terms. Members are selected from among individuals who are not employees of FMCSA and who are specially qualified to serve on the Committee based on their education, training, or experience. Currently, the members include representatives of the motor carrier industry, shipping industry, safety advocates, labor, and safety enforcement officials. Representatives of a single enumerated interest group may not constitute a majority of the Committee members. The Administrator designates a chairman of the Committee from among the members.

Committee members must not be officers or employees of the Federal Government and serve without pay. The Administrator may allow a member, when attending meetings of the Committee or a subcommittee, reimbursement of expenses authorized under Section 5703 of Title 5, United States Code and the Federal Travel Regulation, 41 CFR part 301, relating to per diem, travel, and transportation.

The President's Memorandum of June 18, 2010, concerning lobbyists on Agency boards and commissions (75 FR 35995, 6/23/10) directed the heads of Executive departments and agencies “not to make any new appointments or reappointments of federally registered lobbyists to advisory committees and other boards and commissions.” Pursuant to the President's directive, FMCSA will not consider for appointment to the MCSAC any individual who is subject to the registration and reporting requirements of the Lobbying Disclosure Act (2 U.S.C. 1605).

The Designated Federal Officer anticipates calling Committee meetings approximately four times each year. Meetings are open to the general public, except as provided under the Federal Advisory Committee Act (FACA) (5 U.S.C. App.). Notice of each meeting is published in the Federal Register at least 15 calendar days prior to the date of the meeting.

II. Request for Nominations

The FMCSA seeks nominations for membership to the MCSAC from among its stakeholder groups for representatives with specialized experience, education, or training in commercial motor vehicle safety issues. The Agency is required under FACA to appoint members of diverse views and interests to ensure the committee is balanced with appropriate consideration of background. All Committee members must be able to attend at least three to four meetings each year in person or by teleconference. Interested persons should have a commitment to transportation safety, knowledge of transportation issues, experience on panels that deal with transportation safety, and a record of collaboration and professional experience in commercial motor vehicle safety issues.

On-line applications will be accepted for positions on the MCSAC. Applications may be obtained from the MCSAC Web site at http://mcsac.fmcsa.dot.gov/, completed on-line, and e-mailed to Shannon L. Watson, MCSAC liaison, at Shannon.Watson@dot.gov. The Web site contains additional information on the MCSAC, including reports, meeting minutes, and membership information.

Nominations must be received on or before March 2, 2011.

Issued on: January 21, 2011.
Anne S. Ferro,
Administrator.

[FR Doc. 2011-2104 Filed 1-28-11; 8:45 am]

BILLING CODE 4910-EX-P